DEPARTMENT OF ENERGY

Federal Energy Regulatory Commission

[Project No. 14640-000]

South Maui Pumped Storage, LLC; Notice of Preliminary Permit Application Accepted for Filing and Soliciting Comments, Motions To Intervene, and Competing Applications

On October 20, 2014, South Maui Pumped Storage, LLC, filed an application for a preliminary permit, pursuant to section 4(f) of the Federal Power Act (FPA), proposing to study the feasibility of the South Maui Pumped Storage Project (South Maui Project or project) to be located on the Pacific Ocean, in unincorporated Maui County, Hawaii. The sole purpose of a preliminary permit, if issued, is to grant the permit holder priority to file a license application during the permit term. A preliminary permit does not authorize the permit holder to perform any land-disturbing activities or otherwise enter upon lands or waters owned by others without the owners' express permission.

The proposed project would consist of the following new features: (1) Four 400-foot-long, 200-foot-wide, 50-foot-high oval concrete storage tanks; (2) a 12,000-foot-long, 4.5-foot-diameter buried steel penstock; (3) a 150-foot-long, 68-foot-wide concrete powerhouse; (4) two 15 megawatt (MW) Pelton turbine/generators; (5) three 10 MW multi-stage variable speed pumps; (6) an approximately 400-foot-wide, 450-foot-long tailrace/forebay; ¹ (7) a 12,000-foot-long, 4.5-foot-diameter buried steel supply pipeline; (8) two 28-kilovolt transmission lines totaling 8,000 feet long, interconnecting with the existing Sempra Gas and Power-owned Auwahi wind turbine transmission line; (9) a 5.6-mile-long paved access road; and (10) appurtenant facilities. The estimated annual generation of the South Maui Project would be 5.2 gigawatt-hours.

¹ The tailrace/forebay would be a small constructed inlet from the Pacific Ocean. Flows from the turbines would discharge into the tailrace/forebay. Return flows for filling of the storage tanks would be pumped from the tailrace/forebay.

Applicant Contact: Mr. Bart O'Keefe, United Power Corporation, P.O. Box 1916, Discovery Bay, California 94505; phone: (510) 634-1550.

FERC Contact: Sean O'Neill; phone: (202) 502-6462.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14640-000.

More information about this project, including a copy of the application, can be viewed or printed on the “eLibrary” link of Commission's Web site at http://www.ferc.gov/docs-filing/elibrary.asp. Enter the docket number (P-14640) in the docket number field to access the document. For assistance, contact FERC Online Support.

Dated: January 16, 2015.
Kimberly D. Bose,
Secretary.

[FR Doc. 2015-01140 Filed 1-22-15; 8:45 am]

BILLING CODE 6717-01-P